DEPARTMENT OF DEFENSE

Department of the Army

Revision of MTMC Freight Traffic Rules Publication No. 1B, Item 70, Entitled “Capacity Loads”

AGENCY: Military Traffic Management Command, DOD.

ACTION: Notice.

SUMMARY: The Military Traffic Management Command (MTMC) as the Department of Defense (DOD) Traffic Manager for surface and surface inter-modal traffic management services (DTR vol. 2, pgs 201-13 through 201-14) hereby modifies the text of the existing item entitled “Capacity Load” in the MFTRP 1B item 70. The purpose of this change is to streamline and clarify the application of capacity load by motor carriers doing business with DOD shippers.

DATES: This change is effective September 1, 2001.

FOR FURTHER INFORMATION CONTACT: Mr. Stephen Lord at (757) 878-8547 or via e-mail at lords@mtmc.army.mil.

SUPPLEMENTARY INFORMATION: A notice proposing this change was published in the Federal Register, 66 FR 14359, Monday, March 12, 2001. In response to this notice, a total of three (3) comments were received. A summary of the comments and MTMC's responses are as follows:

Comment one (1): Elimination of Double-Type van trailers will prevent carriers' from receiving sufficient revenue when hauling light and bulky freight.

Response one (1): MTMC recognizes the important role that less-than-truckload (LTL) carriers play in the Defense Transportation System (DTS) and in no-way intends to harm that section of the industry. It must also be recognized that equipment AV1 and AY1 also know as “Pups” are not the conveyance of choice for shipments which are light and bulky. Larger equipment is required and should be requested. MTMC will therefore add paragraph 5b to item 70 which states, “This rule also does not apply to charges based on rate qualifiers: AA1, AF1, AY1, AY2, AV1, AZ1, and AG4. However, when a consignor inadvertently tenders a shipment that exceeds 20,000 pounds or 28 linear feet of loading space on the above listed equipment, the carrier is entitled to bill the consignor using a minimum weight of 20,000 pounds or actual weight whichever is greater. The carrier may not substitute a vehicle that is smaller than what is requested by the consignor.”

Comment two (2): Commenter took exception to proposed paragraph 1. Where it states, “In order for a shipment to be classified as a capacity load, the BoL must be annotated as “Vehicle Fully Loaded” with an authorized person (e.g., Transportation Officer, Transportation Assistant, etc.), having full knowledge of the shipment, initialing the BoL at the time of pick-up.”

Response two (2): MTMC has determined that it is in the best interest of the Government for only authorized personnel with knowledge of the shipment to adjust costing factors on a Bill of Lading (BoL). MTMC also recognizes that contractor personnel operate many facilities. Therefore, paragraph 1 of the item has been altered to state, “In order for a shipment to be classified as a capacity load, the BoL must be annotated as “Vehicle Fully Loaded” with an authorized Government representative (e.g. Transportation Officer, Transportation Assistant, authorized contractor personnel, etc.), having full knowledge of the shipment, initialing the BoL at the time of pick-up.”

Comment three (3): The removal of wording from paragraph 1(B) “because of the necessity for segregation or separation from other freight requires the entire vehicle” creates a situation where carriers will lose revenue from loss of loading space.

Response three (3): After careful review, MTMC concurs with comment and the paragraph in question has been restored to original text.

Comment four (4): Addressed paragraph 3 “it is the carrier's responsibility to efficiently load (e.g. stacking items when appropriate, etc.) on the vehicle provided.” Commenter asserted the proposed wording is open to interpretation and dispute and provides no true guidance.

Response four (4): Most DoD facilities are shipper load, but ultimately it is the carriers' responsibility to ensure the safe and efficient loading of the freight. The placement of this text in the Capacity Load rule addresses an infrequent practice of spreading the freight throughout the vehicle in order to qualify for a truckload rate.

The complete text of Item 70 will read as follows:

Capacity Load (Item 70):

1. A shipment is considered a capacity load (also known as “loaded to full visible capacity”, “loaded to capacity”) when it occupies the full visible capacity of a vehicle, as defined in paragraph 2 below. In order for a shipment to be classified as a capacity load, the BoL must be annotated as “Vehicle Fully Loaded” with an authorized Government representative (e.g., Transportation Officer, Transportation Assistant, authorized contractor personnel, etc.), having full knowledge of the shipment, initialing the BoL at the time of pick-up. Shipments are to be considered as capacity loads if:

a. The shipment occupies 90% of the cargo carrying capacity of the vehicle; or

b. Because of unusual shape or dimensions, or because of the necessity for segregation or separation from other freight, requires the entire vehicle: or

c. Fills a vehicle so that no additional article, equivalent in size to the largest piece tendered, can be loaded in or on the vehicle.

2. For the purposes of this ITEM, a “vehicle” is defined as:

a. A van trailer of not less than forty (40) feet in length and not less than 2,700 cubic feet capacity; or

b. An open top trailer of not less than forty (40) feet in length, or

c. A flatbed trailer of not less than forty (40) feet in length.

3. Under no circumstances shall a carrier bill a shipment as a capacity load if the equipment requested by the shipper, or provided by the carrier, fails to meet the definitions shown in paragraph 2 above. Additionally, it is the carrier's responsibility to ensure the safe and efficient loading of freight (e.g., stacking items when appropriate, etc.) on the vehicle provided.

4. a.The charge for each vehicle loaded to full visible capacity will be based on either the truckload charge, when Rate Qualifiers PL and PM are used; or the highest truckload minimum weight (or actual weight if in excess of the applicable minimum weight) and accompanying truckload rate applicable to the equipment ordered and loaded. Under no circumstances will a line-haul charge be calculated using a minimum weight greater than 45,000 lbs.

b. Shipments rated using line-haul charges based upon Rate Qualifier PQ (MTMC Class 100 Rates) will be calculated using the greater of the actual weight or 40,000 lbs.

Note: All over-dimensional or overweight shipments, as defined in ITEM 415 and ITEM 416, respectively, are subject to the Spot Bid provisions of ITEM 18, paragraph 7.

5. a. This rule does not apply to charges based on rate qualifiers: DH (Per CWT per Dromedary Shipment), DL (Per Dromedary Service Shipment), DZ (Per CWT Per Mile Per Dromedary Shipment), PG (Per Gallon), ST (Per Short Ton), MV (Per Mile Per Vehicle Used), PV (Per Vehicle), and PY (Per Gallon Per Mile). Additionally, this rule does not apply to equipment types: AD (Dromedary Box without mechanical restraining devices), AD6 (Dromedary Box with mechanical restraining devices), A10 (410 Dromedary Box without mechanical restraining devices), A16 (410 Dromedary Box with mechanical restraining devices), or A20 (Motor Vehicle Transport Trailer). In the event that additional dromedary rate qualifiers and/or dromedary equipment codes are developed, this rule shall not apply to them as well.

b. This rule also does not apply to charges based on equipment types: AA1, AF1, AY1, AY2, AV1, AZ1, and AG4. However, when a consignor inadvertently tenders a shipment that exceeds 20,000 pounds or 28 linear feet of loading space on the above listed equipment, the carrier is entitled to bill the consignor using a minimum weight of 20,000 pounds or actual weight whichever is greater. The carrier may not substitute a vehicle that is smaller than what is requested by the consignor.

6. The application of capacity load will in no way restrict the carrier from adding additional freight to the equipment and should not be interpreted as a request for Exclusive Use of the vehicle.

Regulatory Flexibility Act: This change is not considered rule making within the meaning of the Regulatory Flexibility Act, 5 U.S.C. 601-612. Paperwork Reduction Act: The Paperwork Reduction Act, 44 U.S.C. 3051 et seq., does not apply because no information collection requirement or recordkeeping responsibilities are imposed on offerors, contractors, or members of the public.

Edward Brown, Jr.,
Assistant Deputy Chief of Staff, CONUS Traffic Management.

[FR Doc. 01-18014 Filed 7-18-01; 8:45 am]

BILLING CODE 3710-08-P